DEPARTMENT OF COMMERCE

National Telecommunications and Information Administration

First Responder Network Authority

[Docket Number: 160830796-6796-01]

RIN 0660-XC030

Notice of Availability of a Draft Programmatic Environmental Impact Statement for the West Region of the Nationwide Public Safety Broadband Network and Notice of Public Meetings

AGENCY: First Responder Network Authority, National Telecommunications and Information Administration, U.S. Department of Commerce.

ACTION: Announcement of availability of a draft programmatic environmental impact statement and of public meetings.

SUMMARY: The First Responder Network Authority (“FirstNet”) announces the availability of the Draft Programmatic Environmental Impact Statement for the West Region (“Draft PEIS”). FirstNet also announces a series of public meetings to be held throughout the West Region to receive comments on the Draft PEIS. The Draft PEIS evaluates the potential environmental impacts of the proposed nationwide public safety broadband network in the West Region, composed of Arizona, California, Idaho, Nevada, Oregon, and Washington.

DATES: Submit comments on the Draft PEIS for the West Region on or before November 15, 2016. FirstNet will also hold public meetings in each of the six states. See SUPPLMENTARY INFORMATION section for meeting dates.

ADDRESSES: At any time during the public comment period, members of the public, public agencies, and other interested parties are encouraged to submit written comments, questions, and concerns about the project for FirstNet's consideration or to attend any of the public meetings. Written comments may be submitted electronically via www.regulations.gov, FIRSTNET-2016-0004, or by mail to Genevieve Walker, Director of Environmental Compliance, First Responder Network Authority, National Telecommunications and Information Administration, U.S. Department of Commerce, 12201 Sunrise Valley Drive, M/S 243, Reston, VA 20192. Comments received will be made a part of the public record and may be posted to FirstNet's Web site (www.firstnet.gov) without change. Comments should be machine readable and should not be copy-protected. All personally identifiable information (e.g., name, address) voluntarily submitted by the commenter may be publicly accessible. Do not submit confidential business information or otherwise sensitive or protected information. The Draft PEIS is available for download from www.regulations.gov, FIRSTNET-2016-0004. A CD containing the electronic files of this document is also available at public libraries (see Chapter 14 of the Draft PEIS for the complete distribution list). See SUPPLMENTARY INFORMATION section for public meeting addresses.

FOR FURTHER INFORMATION CONTACT: For more information on the Draft PEIS, contact Genevieve Walker, Director of Environmental Compliance, First Responder Network Authority, National Telecommunications and Information Administration, U.S. Department of Commerce, 12201 Sunrise Valley Drive, M/S 243, Reston, VA 20192.

SUPPLEMENTARY INFORMATION:

Public Meetings

Attendees can obtain information regarding the project and/or submit a comment in person during public meetings. The meeting details are as follows:

• Olympia, Washington: October 3, 2016, from 4:00 p.m. to 8:00 p.m., DoubleTree by Hilton Hotel Olympia, 415 Capitol Way North, Olympia, WA 98501.

• Los Angeles, California: October 4, 2016, from 4:00 p.m. to 8:00 p.m., Omni Los Angeles Hotel at California Plaza, 251 South Olive Street, Los Angeles, CA 90012.

• Sacramento, California: October 5, 2016, from 4:00 p.m. to 8:00 p.m., Hyatt Regency Sacramento, 1209 L Street, Sacramento, CA 95814.

• Carson City, Nevada: October 6, 2016, from 4:00 p.m. to 8:00 p.m., Courtyard Carson City, 3870 South Carson Street, Carson City, NV 89701.

• Salem, Oregon: October 12, 2016, from 3:00 p.m. to 8:00 p.m., DoubleTree by Hilton Hotel Salem, Oregon, 1590 Weston Court NE., Salem, OR 97301.

• Phoenix, Arizona: October 18, 2016, from 4:00 p.m. to 8:00 p.m., Renaissance Phoenix Downtown Hotel, 100 North 1st Street, Phoenix, AZ 85004.

• Pocatello, Idaho: October 20, 2016, from 4:00 p.m. to 8:00 p.m., Red Lion Hotel Pocatello, 1555 Pocatello Creek Road, Pocatello, ID 83201.

Background

The Middle Class Tax Relief and Job Creation Act of 2012 (Pub. L. 112-96, Title VI, 126 Stat. 156 (codified at 47 U.S.C. 1401 et seq.)) (the “Act”) created and authorized FirstNet to take all actions necessary to ensure the building, deployment, and operation of an interoperable, nationwide public safety broadband network (“NPSBN”) based on a single, national network architecture. The Act meets a longstanding and critical national infrastructure need, to create a single, nationwide network that will, for the first time, allow police officers, fire fighters, emergency medical service professionals, and other public safety entities to effectively communicate with each other across agencies and jurisdictions. The NPSBN is intended to enhance the ability of the public safety community to perform more reliably, effectively, and safely; increase situational awareness during an emergency; and improve the ability of the public safety community to effectively engage in those critical activities.

The National Environmental Policy Act of 1969 (42 U.S.C. 4321-4347) (“NEPA”) requires federal agencies to undertake an assessment of environmental effects of their proposed actions prior to making a final decision and implementing the action. NEPA requirements apply to any federal project, decision, or action that may have a significant impact on the quality of the human environment. NEPA also establishes the Council on Environmental Quality (“CEQ”), which issued regulations implementing the procedural provisions of NEPA (see 40 CFR parts 1500-1508). Among other considerations, CEQ regulations at 40 CFR 1508.28 recommend the use of tiering from a “broader environmental impact statement (such as a national program or policy statements) with subsequent narrower statements or environmental analysis (such as regional or basin wide statements or ultimately site-specific statements) incorporating by reference the general discussions and concentrating solely on the issues specific to the statement subsequently prepared.”

Due to the geographic scope of FirstNet (all 50 states, the District of Columbia, and five territories) and the diversity of ecosystems potentially traversed by the project, FirstNet has elected to prepare five regional PEISs. The five PEISs were divided into the East, Central, West, South, and Non-Contiguous Regions. The West Region consists of Arizona, California, Idaho, Nevada, Oregon, and Washington. The Draft PEIS analyzes potential impacts of the deployment and operation of the NPSBN on the natural and human environment in the West Region, in accordance with FirstNet's responsibilities under NEPA.

Next Steps

All comments received by the public and any interested stakeholders will be evaluated and considered by FirstNet during the preparation of the Final PEIS. Once a PEIS is completed and a Record of Decision (ROD) is signed, FirstNet will evaluate site-specific documentation, as network design is developed, to determine if the proposed project has been adequately evaluated in the PEIS or warrants a Categorical Exclusion, an Environmental Assessment, or an Environmental Impact Statement.

Dated: September 15, 2016.
Elijah Veenendaal,
Attorney—Advisor, First Responder Network Authority.

[FR Doc. 2016-22575 Filed 9-19-16; 8:45 am]

BILLING CODE 3510-TL-P